DEPARTMENT OF JUSTICE

Drug Enforcement Administration

21 CFR Part 1308

[Docket No. DEA-419F]

Schedules of Controlled Substances: Placement of Eluxadoline Into Schedule IV; Correction

AGENCY: Drug Enforcement Administration, Department of Justice.

ACTION: Final rule; correction.

SUMMARY: The Drug Enforcement Administration (DEA) is correcting a final rule that appeared in the Federal Register of November 12, 2015 (80 FR 69861). The document issued an action placing the substance 5-[[[(2S)-2-amino-3-[4-aminocarbonyl)-2,6-dimethylphenyl]-1-oxopropyl][(1S)-1-(4-phenyl-1H-imidazol-2-yl)ethyl]amino]methyl]-2-methoxybenzoic acid (eluxadoline), including its salts, isomers, and salts of isomers, into schedule IV of the Controlled Substances Act. This document inadvertently included a paragraph in the regulatory text that was not intended for publication, and was unable to be removed before being placed on public inspection. This document corrects the final rule by removing this paragraph.

DATES: Effective December 17, 2015.

FOR FURTHER INFORMATION CONTACT: John R. Scherbenske, Office of Diversion Control, Drug Enforcement Administration; Mailing Address: 8701 Morrissette Drive, Springfield, Virginia 22152, Telephone: (202) 598-6812.

SUPPLEMENTARY INFORMATION: In FR Doc. 2015-28718 appearing on page 69864 in the Federal Register of Thursday, November 12, 2015, the following correction is made:

Administrative Procedure Act [Corrected]

1. On page 69864, in the preamble, at the bottom of the first and top of the second columns, the section titled Administrative Procedure Act is removed entirely.

Dated: December 11, 2015.
Chuck Rosenberg,
Acting Administrator.

[FR Doc. 2015-31843 Filed 12-16-15; 8:45 am]

BILLING CODE 4410-09-P